DEPARTMENT OF ENERGY

Federal Energy Regulatory Commission

Notice of Interviews, Teleconferences, Regional Workshops and Multi-Stakeholder Technical Conference on the Integrated Licensing Process

June 7, 2010.

ILP Effectiveness Evaluation 2010 | Docket No. AD10-7-000.
Exelon Generation Company, LLC | Project No. 2355-011.
Exelon Generation Company, LLC | Project No. 405-087.
Merced Irrigation District | Project No. 2179-042.
Pacific Gas & Electric Company | Project No. 2310-173.
Nevada Irrigation District | Project No. 2266-096.
Sabine River Authority of Texas and State of Louisiana | Project No. 2305-020.
Town of Massena Electric Department | Project No. 12607-001.
Free Flow Power Corporation | Project No. 12829-001.
Free Flow Power Corporation | Project No. 12861-001.
Free Flow Power Corporation | Project No. 12912-001.
Free Flow Power Corporation | Project No. 12915-001.
Free Flow Power Corporation | Project No. 12921-001.
Free Flow Power Corporation | Project No. 12930-001.
Free Flow Power Corporation | Project No. 12938-001.

On May 18, 2010, the Federal Energy Regulatory Commission (FERC) staff issued notice of a second effectiveness evaluation of the Integrated Licensing Process (ILP). The purpose of this evaluation is to seek further feedback on experiences in the ILP and to explore ideas to better implement the ILP. The May 18, 2010 Notice describes this effort, which includes conducting interviews and teleconferences with a cross-section of stakeholders, four regional workshops, and a multi-stakeholder effectiveness technical conference in Washington, DC. To facilitate this review, FERC has contracted with Kearns & West to conduct the 2010 ILP Effectiveness Evaluation.

As indicated in the May 18, 2010 Notice members of Kearns & West are conducting phone interviews with a number of representatives of agencies, tribes, non-governmental organizations, licensees, Commission staff, and others involved in 19 hydropower licensing proceedings in which the applicants have completed the pre-filing efforts and filed license applications using the ILP. To gather additional insight into the ILP formal dispute resolution process, staff has decided to expand the interview efforts to include all the proceedings where the ILP formal dispute resolution process has been used. The additional proceedings are identified in the caption above. Because of ex parte concerns, discussions will be limited to process rather than the merits of any proceeding before the Commission.

See the May 18, 2010 Notice for additional details regarding the ILP effectiveness study.

For additional information, please contact David Turner at 202-502-6091 or david.turner@ferc.gov.

Kimberly D. Bose,
Secretary.

[FR Doc. 2010-14151 Filed 6-11-10; 8:45 am]

BILLING CODE 6717-01-P